DEPARTMENT OF ENERGY

Federal Energy Regulatory Commission

Combined Notice of Filings # 1

May 1, 2009.

Take notice that the Commission received the following compliance electric rate filings pursuant to Order 719

Docket Numbers: ER09-1048-000.

Applicants: California Independent System Operator Corporation.

Description: California Independent System Operator Corp submits its compliance report and amendments to the ISO's tariff, pursuant to Order No. 719.

Filed Date: 04/28/2009.

Accession Number: 20090429-0151.

Comment Date: 5 p.m. Eastern Time on Tuesday, May 26, 2009.

Docket Numbers: ER09-1049-000.

Applicants: Midwest Independent Transmission System Operator, Inc.

Description: Midwest Independent Transmission System Operator, Inc submits a compliance fililg, Second Revised Sheet No 208 et al to FERC Electric Tariff, Fourth Revised Volume No 1, pursuant to Order No. 719.

Filed Date: 04/28/2009.

Accession Number: 20090429-0150.

Comment Date: 5 p.m. Eastern Time on Tuesday, May 26, 2009.

Docket Numbers: ER09-1050-000.

Applicants: Southwest Power Pool Inc.

Description: Southwest Power Pool, Inc submits revisions to its Open Access Transmission Tariff, to comply with the Commission's requirements in Order 719, to be effective 6/28/09.

Filed Date: 04/28/2009.

Accession Number: 20090429-0155.

Comment Date: 5 p.m. Eastern Time on Tuesday, May 26, 2009.

Docket Numbers: ER09-1051-000.

Applicants: ISO New England Inc. and New England Power Pool

Description: ISO New England, Inc et al submits its compliance filing regarding reforms to improve the operation of organized wholesale electric power markets, pursuant to Order No. 719.

Filed Date: 04/28/2009.

Accession Number: 20090429-0152.

Comment Date: 5 p.m. Eastern Time on Tuesday, May 26, 2009.

Docket Numbers: ER09-1063-000.

Applicants: PJM Interconnection, LLC.

Description: PJM Interconnection, LLC submits revisions to its Open Access Transmission Tariff, in compliance with Order 719.

Filed Date: 04/29/2009.

Accession Number: 20090430-0167.

Comment Date: 5 p.m. Eastern Time on Wednesday, May 27, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-10823 Filed 5-8-09; 8:45 am]

BILLING CODE 6717-01-P